DEPARTMENT OF THE INTERIOR

Fish and Wildlife Service

Issuance of Permit for Marine Mammals

AGENCY: Fish and Wildlife Service, Interior.

ACTION: Notice of issuance of permit for marine mammals.

SUMMARY: The following permit was issued.

ADDRESSES: Documents and other information submitted for this application are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On April 18, 2002, a notice was published in the Federal Register (67 FR 19205), that an application had been filed with the Fish and Wildlife Service by Hubbs-Sea World Research Institute for a permit (PRT-054026) to conduct scientific research to measure the sonar acoustic reflectivity of captive held Florida manatees (Trichechus manatus latirostris).

Notice is hereby given that on December 4, 2002, as authorized by the provisions of the Marine Mammal Protection Act of 1972, as amended (16 U.S.C. 1361 et seq.), and the Endangered Species Act of 1973, as amended (16 U.S.C. 1531, et seq.), the Fish and Wildlife Service issued the requested permit subject to certain conditions set forth therein.

Dated: December 6, 2002.
Monica Farris,
Senior Permit Biologist, Branch of Permits, Division of Management Authority.

[FR Doc. 02-32329 Filed 12-23-02; 8:45 am]

BILLING CODE 4310-55-P